DEPARTMENT OF ENERGY

Federal Energy Regulatory Commission

[Project No. 13886-000]

Idaho Irrigation District; Notice of Preliminary Permit Application Accepted for Filing and Soliciting Comments, Motions To Intervene, and Competing Applications

January 21, 2011.

On November 12, 2010, the Idaho Irrigation District filed an application for a preliminary permit, pursuant to section 4(f) of the Federal Power Act (FPA), proposing to study the feasibility of the Idaho Irrigation District Hydroelectric Project (project) to be located on the Idaho Canal, a tributary of the Snake River, in Bonneville and Jefferson counties, Idaho. The sole purpose of a preliminary permit, if issued, is to grant the permit holder priority to file a license application during the permit term. A preliminary permit does not authorize the permit holder to perform any land-disturbing activities or otherwise enter upon lands or waters owned by others without the owners' express permission.

The proposed project would consist of the following: (1) An existing canal intake consisting of a 75-foot-wide trash rack structure and, about 50 feet downstream, a 10-foot-high, 71-foot-wide headgate structure; (2) the upper 3.2 miles of the existing Idaho Canal, whose embankment heights within that reach would be increased 1-3 feet to convey up to 1,000 cubic feet per second (cfs) of additional flows; (3) a new gate structure diverting flows to the powerhouse while allowing irrigation flows to continue down the canal; (4) a new powerhouse, containing one 1.2-megawatt Kaplan turbine with a hydraulic capacity of 1,000 cfs and a generator, discharging flows into the Snake River; (5) a gated overflow spillway to pass flood flows around the powerhouse; (6) a 3,000-foot-long, 15-kilovolt transmission line extending to a distribution line owned by Rocky Mountain Power; (7) a switchyard; and (8) appurtenant facilities. Flow diversions for the project would take into account minimum flow requirements for the bypassed reach of the Snake River. The estimated annual generation of the project would be 7.5 gigawatt-hours.

Applicant Contact: Mr. Alan D. Kelsch, Chairman, Idaho Irrigation District, 496 E. 14th Street, Idaho Falls, Idaho 83404; phone: (208) 522-2356.

FERC Contact: Dianne Rodman; phone: (202) 502-6077.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13886-000) in the docket number field to access the document. For assistance, contact FERC Online Support.

Kimberly D. Bose,
Secretary.

[FR Doc. 2011-2143 Filed 1-31-11; 8:45 am]

BILLING CODE 6717-01-P